SMALL BUSINESS ADMINISTRATION

[Disaster Declaration #12615 and #12616]

Oklahoma Disaster Number OK-00050

AGENCY: U.S. Small Business Administration.

ACTION: Amendment 1.

SUMMARY: This is an amendment of the Presidential declaration of a major disaster for the State of Oklahoma (FEMA—1989—DR), dated 06/06/2011.

Incident: Severe Storms, Tornadoes, Straight-line Winds, and Flooding.

Incident Period: 05/22/2011 through 05/25/2011.

EFFECTIVE DATES: 06/16/2011.

Physical Loan Application Deadline Date: 08/05/2011.

EIDL Loan Application Deadline Date: 03/06/2012.

ADDRESSES: Submit completed loan applications to: U.S. Small Business Administration, Processing and Disbursement Center, 14925 Kingsport Road, Fort Worth, TX 76155.

FOR FURTHER INFORMATION CONTACT: A Escobar, Office of Disaster Assistance, U.S. Small Business Administration, 409 3rd Street, SW., Suite 6050, Washington, DC 20416.

SUPPLEMENTARY INFORMATION: The notice of the Presidential disaster declaration for the State of OKLAHOMA, dated 06/06/2011 is hereby amended to include the following areas as adversely affected by the disaster:

Primary Counties: (Physical Damage and Economic Injury Loans): Caddo.

Contiguous Counties: (Economic Injury Loans Only):

Oklahoma: Custer, Kiowa, Washita.

All other information in the original declaration remains unchanged.

(Catalog of Federal Domestic Assistance Numbers 59002 and 59008)

James E. Rivera,
Associate Administrator for Disaster Assistance.

[FR Doc. 2011-15908 Filed 6-23-11; 8:45 am]

BILLING CODE 8025-01-P